NATIONAL SCIENCE FOUNDATION

Business and Operations Advisory Committee; Notice of Meeting

In accordance with Federal Advisory Committee Act (Pub. L. 92-463, as amended), the National Science Foundation announces the following meeting:

Name: Business and Operations Advisory Committee (9556) .

Date/Time: Monday, February 25, 2013; 1:00 p.m. to 4:00 p.m. (EST).

Place: National Science Foundation, 4201 Wilson Boulevard, Stafford II, Room 515.

To help facilitate your entry into the building, contact the individual listed below. Your request should be received by email (pbalanga@nsf.gov) on or prior to Thursday, February 21, 2012.

Type of Meeting: Open.

Contact Person: Patty Balanga, National Science Foundation, 4201 Wilson Boulevard, Arlington, VA 22230 (703) 292-8100, pbalanga@nsf.gov.

Purpose of Meeting: To provide advice concerning issues related to the oversight, integrity, development and enhancement of NSF's business operations.

Agenda: Welcome/Introductions, BFA Strategic Priorities, Follow-Up on NSF Employee Viewpoint Survey, Discuss the Pros and Cons of the Meeting's Virtual Aspects.

Dated: February 1, 2013.
Susanne Bolton,
Committee Management Officer.

[FR Doc. 2013-02687 Filed 2-6-13; 8:45 am]

BILLING CODE 7555-01-P